DEPARTMENT OF ENERGY

Federal Energy Regulatory Commission

Combined Notice of Filings #1

Take notice that the Commission received the following electric rate filings:

Docket Numbers: ER19-373-003.

Applicants: Paulding Wind Farm II LLC.

Description: Compliance filing: Compliance filing in Docket ER19-373 to be effective 1/20/2019.

Filed Date: 5/10/19.

Accession Number: 20190510-5033.

Comments Due: 5 p.m. ET 5/31/19.

Docket Numbers: ER19-1151-001.

Applicants: PJM Interconnection, L.L.C.

Description: Compliance filing: Supplement to Docket No. ER19-1151 re: Effective Date to add Transource as a TO to be effective 5/10/2019.

Filed Date: 5/10/19.

Accession Number: 20190510-5128.

Comments Due: 5 p.m. ET 5/31/19.

Docket Numbers: ER19-1245-001.

Applicants: Nevada Power Company.

Description: Compliance filing: NPC-Overton-Lincoln Trans Agr R.S. 51 Fully Executed Compliance to be effective 5/11/2019.

Filed Date: 5/10/19.

Accession Number: 20190510-5100.

Comments Due: 5 p.m. ET 5/31/19.

Docket Numbers: ER19-1818-000.

Applicants: El Paso Electric Company.

Description: § 205(d) Rate Filing: Rate Schedule No. 118, EPE-EDF Engineering & Procurement Agreement to be effective 5/10/2019.

Filed Date: 5/9/19.

Accession Number: 20190509-5131.

Comments Due: 5 p.m. ET 5/30/19.

Docket Numbers: ER19-1819-000.

Applicants: Broad River Solar, LLC.

Description: Baseline eTariff Filing: Application for Market-Based Rate Authority to be effective 7/10/2019.

Filed Date: 5/10/19.

Accession Number: 20190510-5025.

Comments Due: 5 p.m. ET 5/31/19.

Docket Numbers: ER19-1820-000.

Applicants: Stony Knoll Solar, LLC.

Description: Baseline eTariff Filing: Application for Market-Based Rate Authority to be effective 7/10/2019.

Filed Date: 5/10/19.

Accession Number: 20190510-5026.

Comments Due: 5 p.m. ET 5/31/19.

Docket Numbers: ER19-1821-000.

Applicants: Speedway Solar NC, LLC.

Description: Baseline eTariff Filing: Application for Market-Based Rate Authority to be effective 7/10/2019.

Filed Date: 5/10/19.

Accession Number: 20190510-5028.

Comments Due: 5 p.m. ET 5/31/19.

Docket Numbers: ER19-1822-000.

Applicants: ISO New England Inc.

Description: ISO New England Inc. submits First Quarter 2019 Capital Budget Report.

Filed Date: 5/10/19.

Accession Number: 20190510-5080.

Comments Due: 5 p.m. ET 5/31/19.

Take notice that the Commission received the following electric securities filings:

Docket Numbers: ES19-23-000.

Applicants: Upper Michigan Energy Resources Corporation.

Description: Supplement to April 22, 2019 Application under Section 204 of the Federal Power Act (New Exhibits) of Upper Michigan Energy Resources Corporation.

Filed Date: 5/9/19.

Accession Number: 20190509-5136.

Comments Due: 5 p.m. ET 5/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2019.
Kimberly D. Bose,
Secretary.

[FR Doc. 2019-10301 Filed 5-16-19; 8:45 am]

BILLING CODE 6717-01-P